NATIONAL LABOR RELATIONS BOARD

Restructuring of National Labor Relations Board's Headquarters' Offices

AGENCY: National Labor Relations Board.

ACTION: Notice of Reorganization; Restructuring of National Labor Relations Board's Headquarters' Offices.

Authority: Sections 3, 4, 6, and 10 of the National Labor Relations Act, 29 U.S.C. Sec. 3, 4, 6, and 10.

SUMMARY: This notice advises the public that the National Labor Relations Board is restructuring and realigning the location and lines of authority of certain of its Headquarters' offices to create an independent Division of Legal Counsel reporting to the Office of the General Counsel.

These administrative changes are being adopted in order to centralize the services of several Headquarters' offices, eliminate duplication of functions, improve the delivery of services, and streamline, integrate and enhance management functions.

DATES: Effective Date: August 11, 2013.

ADDRESSES: National Labor Relations Board, 1099 14th Street NW., Room 11800, Washington, DC 20570.

FOR FURTHER INFORMATION CONTACT: William B. Cowen, Solicitor, National Labor Relations Board, 1099 14th Street NW., Washington, DC 20570. Telephone: (202) 273-2910 (this is not a toll-free number), 1-866-315-6572 (TTY/TDD).

SUPPLEMENTARY INFORMATION: The National Labor Relations Board is centralizing the services of several Headquarters' offices and restructuring them into one independent Division of Legal Counsel. This new Division will have three branches—(1) Ethics, Employment and Administrative Law, (2) Contempt, Compliance and Special Litigation, and (3) Freedom of Information Act (FOIA) Branch. When dealing with matters on behalf of the five-member Board or the various Board-side offices, the Division of Legal Counsel will coordinate through the Office of the Solicitor.

The Ethics, Employment and Administrative Law Branch will provide the Agency with legal counsel and advice in the areas of labor relations, employment and personnel law (including claims involving MSPB, FLRA, EEOC, U.S. Office of Special Counsel), government contracting, Federal Tort Claims Act matters, and government and bar ethics.

The Contempt, Compliance and Special Litigation Branch will provide compliance and contempt advice and litigation involving, among other things, the Bankruptcy Code, the Federal Debt Collection Procedures Act and compliance with outstanding court judgments; conduct litigation and provide the Agency with advice and assistance when programs, statutes or outside proceedings threaten the Agency's ability to carry out its mission; ensure Agency compliance with government regulations that affect its work, such as the Administrative Procedures Act, statutes relating to Agency rulemaking, the Sunshine Act, the Health Insurance Portability and Accountability Act, the Right to Financial Privacy Act; and provide guidance and conduct litigation involving FOIA and Privacy Act issues.

The FOIA Branch will provide advice on FOIA and some related Privacy Act issues; handle all FOIA requests and appeals for Headquarters and Regional Offices; and prepare FOIA guideline memoranda and annual FOIA reports.

Lead Technology Counsel will conduct litigation and provide advice and assistance involving e-litigation matters.

These administrative changes are prompted by the Agency's streamlining initiative and is responsive to the requests for “one-stop shopping” for technical expertise from internal customers, to allow them to better focus on their mission-critical functions.

The following Headquarters' offices will be affected by these administrative changes:

Labor Relations and Special Counsel moves from the Division of Operations-Management to the Ethics, Employment and Administrative Law Branch of the Division of Legal Counsel;

Government Ethics moves from Administration Division and Bar Ethics moves from the Division of Enforcement Litigation to the Ethics, Employment and Administrative Law Branch of the Division of Legal Counsel;

Special Litigation Branch, and Contempt Litigation and Compliance Branch moves from Enforcement Litigation Division to Contempt, Compliance and Special Litigation Branch of the Division of Legal Counsel;

FOIA processing and preparation of FOIA guidance and reporting functions of the Research and Policy Planning Branch moves from the Division of Advice to the FOIA Branch of the Division of Legal Counsel. Additionally, FOIA appeals processing on the Board-side moves from the Solicitor's Office and FOIA appeals processing on the General Counsel-side moves from the Office of Appeals in the Enforcement Litigation Division to the FOIA Branch of the Division of Legal Counsel with Jennifer Abruzzo as the Chief FOIA Officer for the Agency; and

Lead Technology Counsel moves from the Division of Enforcement Litigation and will directly report to the Associate General Counsel of the Division.

These administrative changes are being adopted in order to centralize the services of several Headquarters' offices, eliminate duplication of functions, improve the delivery of services, and streamline, integrate and enhance management functions. Because these administrative changes relate to the internal management of the Agency, pursuant to 5 U.S.C. 553, they are exempted from the notice and comment requirements of the Administrative Procedure Act.

Dated: Washington, DC, July 19, 2013.
By direction of the Board.
William B. Cowen,
Solicitor.

[FR Doc. 2013-17817 Filed 7-24-13; 8:45 am]

BILLING CODE 7545-01-P